Proclamation 7592 of September 13, 2002

National Farm Safety and Health Week, 2002

By the President of the United States of America

A Proclamation

American farm and ranch families embody our Nation's values of hard work, love of the land, and love of country. Farming not only feeds our country but increasingly provides more of our Nation's energy needs. The success of America's farmers and ranchers is essential to our economy, and helping to ensure their safety is an important goal for our country.

Because their homes also serve as their workplace, our country's farm families are often exposed to unique hazards. These include powerful machinery, dangerous chemicals, unruly livestock, and buildings containing high dust and gas levels. To ensure safety, young family members helping with farm work must be trained to recognize these dangers; and we must also safeguard older farm workers whose health risks may increase due to aging and previous injuries.

Professionals in the engineering safety and rural health fields have made significant progress in preventing accidents in agricultural settings. To protect machinery operators, industry has made great strides to incorporate safeguards to prevent rollovers, entanglements, and other accidents. Personal protective gear, new and safer packaging, and advances in respiratory protection and hearing conservation help protect agricultural workers from contact with hazardous products, excessive dust, gas, and unduly loud noise in the work environment.

To ensure our farmers' continued health, we must increase public awareness of available safety precautions. Simple, economical tools and procedures can help prevent accidents on farms. With proper installation and care, lighting and marking devices reduce the risk of highway collisions between farm equipment and vehicles. By clearly labeling farm chemicals and storing them in locked containers, we can help avoid poisonings and injuries.

America's farmers make invaluable contributions to our country, and my Administration is committed to preserving the farm way of life for future generations. In May, I was pleased to sign the Farm Security and Rural Investment Act of 2002. This generous new law will strengthen American agriculture and support our farmers through difficult times, without encouraging overproduction and depressing prices. I also intend to aggressively use my trade promotion authority to open markets to American farmers. By promoting farm safety, we strengthen our farm economy and help our Nation's farmers continue to be the best, most productive farmers in the world.

NOW, THEREFORE, I, GEORGE W. BUSH, President of the United States of America, by virtue of the authority vested in me by the Constitution and laws of the United States, do hereby proclaim the week of September 15 through September 21, 2002, as National Farm Safety and Health Week. I call upon the agencies, organizations, and businesses that serve America's agricultural workers to strengthen their commitment to promoting farm safety and health programs. I also encourage American citizens to recognize the importance of our agricultural heritage and the valuable contributions America's farmers, ranchers, and farm workers make to our Nation's economy and vitality.

IN WITNESS WHEREOF, I have hereunto set my hand this thirteenth day of September, in the year of our Lord two thousand two, and of the Independence of the United States of America the two hundred and twenty-seventh.

B

[FR Doc. 02-23998

Filed 9-18-02; 8:45 am]

Billing code 3195-01-P